SECURITIES AND EXCHANGE COMMISSION

[SEC File No. 270-518, OMB Control No. 3235-0576]

Submission for OMB Review; Comment Request; Extension: Regulation G

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Regulation G (17 CFR 244.100—244.102) under the Securities Exchange Act of 1934 (the “Exchange Act”) (15 U.S.C. 78a et seq.) requires publicly reporting companies that disclose or releases financial information in a manner that is calculated or presented other than in accordance with generally accepted accounting principles (“GAAP”) to provide a reconciliation of the non-GAAP financial information to the most directly comparable GAAP financial measure. Regulation G implemented the requirements of Section 401 of the Sarbanes-Oxley Act of 2002 (15 U.S.C. 7261). We estimate that approximately 7,196 public companies must comply with Regulation G approximately six times a year for a total of 43,176 responses annually. We estimated that it takes approximately 0.5 hours per response (0.5 hours per response x 43,176 responses) for a total reporting burden of 21,588 hours annually.

An agency may not conduct or sponsor, and a person is not required to respond to, a collection of information unless it displays a currently valid control number.

Public comment instructions: The public may view and comment on this information collection request at: https://www.reginfo.gov/public/do/PRAViewICR?ref_nbr=202412-3235-021 or send an email comment to MBX.OMB.OIRA.SEC_desk_officer@omb.eop.gov within 30 days of the day after publication of this notice by January 27, 2025.

Dated: December 19, 2024.
J. Matthew DeLesDernier,
Deputy Secretary.

[FR Doc. 2024-30767 Filed 12-23-24; 8:45 am]

BILLING CODE 8011-01-P